GENERAL SERVICES ADMINISTRATION

[Notice-PBS-2020-05; Docket No. 2020-0002; Sequence No. 21]

Announcement of Virtual Public Meeting for the Revised Draft Environmental Impact Statement for the Expansion and Modernization of the San Luis I Land Port of Entry, San Luis, Arizona

AGENCY: Public Building Service (PBS), General Services Administration (GSA).

ACTION: Announcement of virtual public meeting and extension of public review period.

SUMMARY: This notice announces the virtual public meeting for the revised Draft Environmental Impact Statement (DEIS), which analyzes the potential environmental impacts of a proposal by the General Services Administration (GSA) to expand and modernize the San Luis I Land Port of Entry (LPOE) located in San Luis, Arizona along the U.S.-Mexico international border.

DATES: A virtual public meeting will be held on Wednesday, July 14, 2020 from 4:00 p.m. to 6:00 p.m., Mountain Standard Time (MST). Interested parties are encouraged to attend and provide comments on the revised DEIS. The comment period for the revised DEIS has been extended and ends on July 21, 2020.

ADDRESSES: Interested parties are also asked to register for the public meeting on the following website: https://www.gsa.gov/about-us/regions/welcome-to-the-pacific-rim-region-9/land-ports-of-entry/san-luis-i-land-port-of-entry. An electronic copy of the revised DEIS and the 2019 DEIS may also be found on the provided website.

FOR FURTHER INFORMATION CONTACT: Questions or comments on the DEIS should be directed to: Osmahn Kadri, Regional Environmental Quality Advisor/NEPA Project Manager, GSA, at 415-522-3617, or via email to osmahn.kadri@gsa.gov. Written comments can be mailed to: GSA San Luis EIS, c/o LMI, 7940 Jones Branch Drive, Tysons, VA 22102. All comments must be received by July 21, 2020, in order to be considered for the Final EIS.

SUPPLEMENTARY INFORMATION: During the DEIS review period in April 2019, multiple comments were received, including one comment which identified a new alternative to be included in the analysis. Therefore, GSA determined that the Draft EIS would be re-released for public review that includes the new alternative. The revised DEIS describes the project purpose and need, the alternatives being considered, and the potential impacts of each alternative on the existing environment. As the lead agency for this undertaking, GSA is acting on behalf of its major tenant at the facility, the Department of Homeland Security's U.S. Customs and Border Protection (CBP).

The availability of the revised DEIS was announced in a separate Federal Register notice on March 31, 2020 (85 FR 17890, pp. 17890-17891).

Virtual Public Meeting

The virtual public meeting will be held via a Zoom Webinar. Preregistration is strongly encouraged. The meeting will include a presentation by GSA and an opportunity for interested parties to provide comments. Comments can also be provided prior to the meeting via email to osmahn.kadri@gsa.gov.

Jared Bradley,
Director, Portfolio Management Division, Pacific Rim Region, Public Buildings Service.

[FR Doc. 2020-14103 Filed 6-30-20; 8:45 am]

BILLING CODE 6820-YF-P